DEPARTMENT OF HEALTH AND HUMAN SERVICES

Centers for Medicare & Medicaid Services

[CMS-1196-N]

RIN 0938-ZA18

Medicare Program: Notice of Practicing Physicians Advisory Council Rechartering and Request for Nominations

AGENCY: Centers for Medicare & Medicaid Services, HHS.

ACTION: Notice.

SUMMARY: In accordance with section 10(a) of the Federal Advisory Committee Act (5 U.S.C. App. 2), this notice announces that the Practicing Physicians Advisory Council (the Council) has been rechartered for a 2-year period, through June 12, 2003. This notice also invites all organizations representing physicians to submit nominees for membership on the Council. There are currently three vacancies on the Council.

EFFECTIVE DATE: Nominations will be considered if we receive them at the appropriate address, provided below, no later than 5 p.m., E.S.T., on August 13, 2001.

ADDRESSES: Mail or deliver nominations to the following address: Centers for Medicare & Medicaid Services, Center for Medicare Management, Office of Professional Relations, Attention: Paul Rudolf, MD, JD, Executive Director, Practicing Physicians Advisory Council, Room 435H, Hubert H. Humphrey Building, 200 Independence Avenue, SW, Washington, DC 20201

FOR FURTHER INFORMATION CONTACT: Paul Rudolf, MD, JD, Executive Director, Practicing Physicians Advisory Council, (202) 690-7418.

SUPPLEMENTARY INFORMATION: Section 4112 of the Omnibus Budget Reconciliation Act of 1990 (Public Law 101-508) added a new section 1868 to the Social Security Act (the Act), which established the Practicing Physicians Advisory Council (the Council). The Council advises the Secretary of the Department of Health and Human Services (the Secretary) on proposed regulations and manual issuances related to physicians' services. An advisory committee created by the Congress, such as this one, is subject to the provisions of the Federal Advisory Committee Act (5 U.S.C. App. 2).

Section 1868(a) of the Act requires that the Council consist of 15 physicians, each of whom must have submitted at least 250 claims for physicians' services under Medicare in the previous year. At least 11 Council members must be physicians as defined in section 1861(r)(1) of the Act; that is, State-licensed physicians of medicine or osteopathy. The other four Council members may include dentists, podiatrists, optometrists, and chiropractors.

The Council must include both participating and nonparticipating physicians, as well as physicians practicing in rural and underserved urban areas. In addition, section 1868(a) of the Act provides that nominations to the Secretary for Council membership must be made by medical organizations representing physicians.

This notice is an invitation to all organizations representing physicians to submit nominees for membership on the Council. Current members whose terms expired on February 28, 2001 will be considered for reappointment, if renominated, subject to the Department's administrative guidelines for advisory committee management. Candidates nominated in December 2000 are still being considered for the vacant Council seats. With the changes in Administration and the government-wide freeze on new appointments it has been necessary to extend and reopen the nomination process to identify additional candidates for seats on the Council. Therefore, the Centers for Medicare & Medicaid Services will be accepting additional nominees to the Council if they are received by the close of business August 13, 2001. The Secretary will appoint new members to the Council from among those candidates determined to have the expertise required to meet specific agency needs and in a manner to ensure appropriate balance of membership.

Each nomination must state that the nominee has expressed a willingness to serve as a Council member and must be accompanied by a short resume or description of the nominee's experience. To permit an evaluation of possible sources of conflict of interest, potential candidates will be asked to provide detailed information concerning financial holdings, consultant positions, research grants, and contracts.

Section 1868(b) of the Act provides that the Council meet once each calendar quarter, as requested by the Secretary, to discuss proposed changes in regulations and manual issuances that relate to physicians' services. Council members are expected to participate in all meetings. Section 1868(c) of the Act provides for payment of expenses and a per diem allowance for Council members at a rate equal to payment provided members of other advisory committees. In addition to making these payments, the Department of Health and Human Services provides management and support services to the Council.

Authority: (Section 1868 of the Social Security Act (42 U.S.C. 1395ee) and section 10(a) of Public Law 92-463 (5 U.S.C. App. 2 section 10(a)).

Dated: July 30, 2001.
Thomas A. Scully,
Administrator, Centers for Medicare & Medicaid Services.

[FR Doc. 01-19328 Filed 8-1-01; 8:45 am]

BILLING CODE 4120-01-P